DEPARTMENT OF AGRICULTURE

Agricultural Marketing Service

[Doc. No. AMS-LPS-16-0007]

Notice of Request for Revision to and Extension of a Currently Approved Information Collection for Commodities Covered by the Livestock Mandatory Reporting Act of 1999

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget (OMB), for an extension of and revision to the currently approved information collection used to compile and generate cattle, swine, lamb, and boxed beef market news reports under the Livestock Mandatory Reporting Act of 1999 (1999 Act) (OMB 0581-0186). One new form is introduced in this collection.

DATES: Comments received by April 29, 2016 will be considered.

Additional Information or Comments: Interested persons are invited to submit comments concerning this information collection document. Comments should be submitted online at www.regulations.gov or sent to Julie Hartley, Assistant to the Director; Livestock, Poultry, and Grain Market News Division; Livestock, Poultry, and Seed Program; Agricultural Marketing Service, U.S. Department of Agriculture, 1400 Independence Ave. SW., Room 2619-S, STOP 0252; Washington, DC 20250-0252; telephone (202) 720-7316; fax (202) 690-3732; or email Julie.Hartley@ams.usda.gov. All comments should reference the docket number (AMS-LPS-16-0007), the date and page number of this issue of the Federal Register. All comments received will be posted without change, including any personal information provided, online at www.regulations.gov and will be made available for public inspection at the above physical address during regular business hours.

FOR FURTHER INFORMATION CONTACT: Julie Hartley at the above physical address, by telephone (202) 720-7316, or by email at Julie.Hartley@ams.usda.gov.

SUPPLEMENTARY INFORMATION:

Title: Livestock Mandatory Reporting Act of 1999.

OMB Number: 0581-0186.

Expiration Date of Approval: 09-30-2016.

Type of Request: Request for extension of and revision to a currently approved information collection, the addition of one new form, and the revision of three forms.

Abstract: The 1999 Act was enacted into law on October 22, 1999, [Pub. L. 106-78; 113 Stat. 1188; 7 U.S.C. 1635-1636(i)] as an amendment to the Agricultural Marketing Act of 1946, as amended (7 U.S.C. 1621 et seq.). On April 2, 2001, the Agricultural Marketing Service (AMS); Livestock, Poultry, and Seed Program (LPS); Livestock, Poultry, and Grain Market News Division (LPGMN) implemented the Livestock Mandatory Reporting (LMR) program as required by the 1999 Act. The purpose was to establish a program of easily understood information regarding the marketing of cattle, swine, lambs, and livestock products; improve the price and supply reporting services of the United States Department of Agriculture (USDA); and encourage competition in the marketplace for livestock and livestock products. The LMR regulations (7 CFR part 59) set the requirements for certain packers or importers to submit purchase and sales information of livestock and livestock products to meet this purpose.

The statutory authority for the program lapsed on September 30, 2005. In October 2006, Congress passed the Livestock Mandatory Reporting Reauthorization Act (2006 Reauthorization Act) [Pub. L. 109-296]. The 2006 Reauthorization Act re-established the regulatory authority for the continued operation of LMR through September 30, 2010, and separated the reporting requirements for sows and boars from barrows and gilts, among other changes. On July 15, 2008, the LMR final rule became effective (73 FR 28606, May 16, 2008).

On September 28, 2010, Congress passed the Mandatory Price Reporting Act of 2010 (2010 Reauthorization Act) [Pub. L. 111-239]. The 2010 Reauthorization Act reauthorized LMR for an additional 5 years through September 30, 2015, and required the addition of wholesale pork through negotiated rulemaking. On January 7, 2013, the LMR final rule became effective (77 FR 50561, August 22, 2012).

The Agriculture Reauthorizations Act of 2015 (2015 Reauthorization Act) [Pub. L. 114-54], enacted on September 30, 2015, reauthorized the LMR program for an additional 5 years through September 30, 2020, and amended certain lamb and swine reporting requirements. Furthermore, AMS received a separate request from the lamb industry to make additional amendments to the lamb reporting requirements. AMS is currently undergoing rulemaking actions to include the following amendments concerning the 2015 Reauthorization Act and lamb industry requests: (1) Add two definitions and amend three definitions affecting lamb packers, processors and importers, (2) add lamb pelts as a reporting requirement, (3) add one definition affecting swine packers and processors, and (4) add reporting requirements for swine purchase types and late afternoon swine purchases.

The reports generated by the 1999 Act are used by other Government agencies to evaluate market conditions and calculate price levels, including USDA's Economic Research Service and World Agricultural Outlook Board. Economists at most major agricultural colleges and universities use the reports to make short and long-term market projections. Also, the Government is a large purchaser of livestock related products. A system to monitor the collection and reporting of data therefore is needed.

In order to comply with the 1999 Act's goal of encouraging competition in the marketplace for livestock and livestock products, Section 251 of the Act directs USDA to make available to the public information and statistics obtained from, or submitted by, respondents covered by the Act in a manner that ensures that the confidentiality of the reporting entities is preserved. AMS is in the best position to provide this service.

Estimate of Burden: Public reporting burden for this collection, including the additional form, and the three revised forms, is estimated to average 0.175 hours per response.

Respondents: Business or other for-profit entities, individuals or households, farms, and the Federal Government.

Estimated Number of Respondents: 560 respondents.

Estimated Number of Responses: 137,592 responses.

Estimated Number of Responses per Respondent: 246 responses.

Estimated Total Annual Burden on Respondents: 24,006 hours.

The following is a new form to be added to this information collection: Form LS-133, Lamb Pelts Weekly Report.

Title: Lamb Pelts Weekly Report (LS-133)

The new lamb reporting requirements under § 59.302 would require lamb packers to report weekly on the price, volume, and classification descriptors for all lamb pelts from lambs purchased on a negotiated purchase, formula marketing arrangement, or forward contract basis. Form LS-133 is completed by lamb packers. The data collected with this form is necessary to facilitate the reporting of information on lamb pelts, which provides lamb producers more accurate information on the total value of lambs marketed for slaughter.

Estimate of Burden: Public reporting burden for collection of information is estimated to be 0.25 hours per electronically submitted response.

Respondents: Packer processing plants required to report information on live lamb purchases to the Secretary.

Estimated Number of Respondents: 6 plants.

Estimated Number of Responses: 312 responses.

Estimated Number of Responses per Respondent: 52.

Estimated Total Annual Burden on Respondents: 78 hours.

The following are three forms to be revised in this information collection: Form LS-123, Live Lamb Weekly Report; Form LS-118, Swine Prior Day Report; and Form LS-119, Swine Daily Report.

Title: Live Lamb Weekly Report (Form LS-123)

Form LS-123 is revised to include the volume and delivery period information for reporting lambs committed for delivery. Form LS-123 is completed by lamb packers. The information collected on this revised form will provide industry supply and demand information to market participants; improving transparency in the marketplace and enabling them to be more informed on specific types of lamb market data not available through other USDA agencies.

Estimate of Burden: Public reporting burden for collection of information is estimated to be 0.25 hours per electronically submitted response.

Respondents: Packer processing plants required to report information on live lamb purchases to the Secretary.

Estimated Number of Respondents: 7 plants.

Estimated Number of Responses: 364 responses.

Estimated Number of Responses per Respondent: 52.

Estimated Total Annual Burden on Respondents: 91 hours.

Title: Swine Prior Day Report (Form LS-118)

Form LS-118 is revised to include an additional purchase type for negotiated formula purchases of swine. Form LS-118 is completed by swine packers. The information collected on this revised form will provide market participants with more specific information about the various purchase methods used in the daily marketing of swine and with a better understanding of the marketplace concerning formulated prices and spot negotiated prices.

Estimate of Burden: Public reporting burden for collection of information is estimated to be 0.25 hours per electronically submitted response.

Respondents: Packer processing plants required to report information on live swine purchases to the Secretary.

Estimated Number of Respondents: 47 plants.

Estimated Number of Responses: 12,220 responses.

Estimated Number of Responses per Respondent: 260.

Estimated Total Annual Burden on Respondents: 3,055 hours.

Title: Swine Daily Report (Form LS-119)

Form LS-119 is revised to include an additional purchase type for negotiated formula purchases of swine. Form LS-119 is completed by swine packers. The information collected on this revised form will provide market participants with more specific information about the various purchase methods used in the daily marketing of swine and a better understanding of the marketplace concerning formulated prices and spot negotiated prices.

Estimate of Burden: Public reporting burden for collection of information is estimated to be 0.17 hours per electronically submitted response.

Respondents: Packer processing plants required to report information on live swine purchases to the Secretary.

Estimated Number of Respondents: 39 plants.

Estimated Number of Responses: 20,280 responses.

Estimated Number of Responses per Respondent: 520.

Estimated Total Annual Burden on Respondents: 3,447 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this document will be summarized and included in the request for OMB approval. All comments will become a matter of public record.

Dated: February 22, 2016.
Elanor Starmer,
Acting Administrator, Agricultural Marketing Service.

[FR Doc. 2016-04045 Filed 2-26-16; 8:45 am]

BILLING CODE 3410-02-P